DEPARTMENT OF AGRICULTURE

Forest Service

Notice of Resource Advisory Committee Meeting

AGENCY: Lassen Resource Advisory Committee, Susanville, California, USDA Forest Service.

ACTION: Notice of meetings.

SUMMARY: Pursuant to the authorities in the Federal Advisory Committees Act (Pub. L. 92-463) and under the Secure Rural Schools and Community Self-Determination Act of 2000 (Pub. L. 110-343) the Lassen County Resource Advisory Committee will meet April 9, 2009 and May 6 and 7, 2009 in Susanville, California for business meetings. The meetings are open to the public.

SUPPLEMENTARY INFORMATION: The business meeting on April 9, 2009, will begin at 9 a.m., at the Lassen National Forest Headquarters Office, Caribou Conference Room, 2550 Riverside Drive, Susanville, CA 96130. This meeting will be dedicated to reauthorization update, review the process for 2009 funding, discuss project review with monthly monitoring reports, summer field trips to projects, and overview of the Forest Health Program for the “Secure Rural Schools and Self Determination Act of 2000,” commonly known as Payments to States.

The business meetings on May 6 and 7, 2009, will begin at 8:30 a.m., at the Lassen National Forest Headquarters Office, Caribou Conference Room, 2550 Riverside Drive, Susanville, CA 96130. These meetings will be dedicated to hearing presentations from project proponents on Tuesday and voting on Wednesday for funding through the “Secure Rural Schools and Self Determination Act of 2000,” commonly known as Payments to States.

FOR FURTHER INFORMATION CONTACT: Terri Frolli, Designated Federal Official, at (530) 257-4188; or Public Affairs Officer, Heidi Perry, at (530) 252-6604.

Kathleen S. Morse,
Forest Supervisor.

[FR Doc. E9-6564 Filed 3-25-09; 8:45 am]

BILLING CODE